DEPARTMENT OF TRANSPORTATION

Surface Transportation Board

[Docket No. AB 43 (Sub-No. 187X)]

Illinois Central Railroad Company—Discontinuance of Trackage Rights Exemption—in Madison, Yazoo, Holmes, Carroll, Montgomery, Grenada, Yalobusha, Tallahatchie, Panola, Tate, and Desoto Counties, Miss.

Illinois Central Railroad Company (IC) ¹ has filed a verified notice of exemption under 49 CFR part 1152 subpart F—Exempt Abandonments and Discontinuances of Service to discontinue its limited overhead trackage rights over approximately 175.4 miles of rail line known as the Grenada Line, owned by Grenada Railway LLC (GRYR),² extending between milepost 403.0 at Southaven and milepost 703.8 near Canton, in Madison, Yazoo, Holmes, Carroll, Montgomery, Grenada, Yalobusha, Tallahatchie, Panola, Tate, and Desoto Counties, Miss.³ The line traverses United States Postal Service Zip Codes 39046, 39179, 39146, 39079, 39063, 39192, 39176, 38967, 38925, 38926, 38960, 38901, 38953, 38961, 38948, 38927, 38658, 38620, 38606, 38666, 38619, 38668, 38618, 38632, 38651, 38637, and 38671.

¹ IC is a wholly owned, indirect subsidiary of Canadian National Railway Company and is a Class I rail carrier.

² On December 17, 2013, GRYR filed a petition for exemption in Grenada Railway, LLC—Abandonment Exemption—in Montgomery, Carroll, Holmes, Yazoo, & Madison Counties, Miss., Docket No. AB 1087 (Sub-No. 1X), to abandon the southern segment of its Grenada Line between milepost 626.1 near Elliott and milepost 703.8 near Canton, Miss., a distance of 77.7 miles. Notice instituting that proceeding was served and published in the Federal Register on January 6, 2014 (79 FR 702), and a decision modifying the procedural schedule was served on January 24, 2014. That matter is pending before the Board.

³ IC previously filed a verified notice of exemption in Docket No. AB 43 (Sub-No. 185X) for discontinuance of IC's same limited overhead trackage rights over the Grenada line but indicated that, pursuant to the trackage rights agreement between the parties, the discontinuance was contingent upon approval of GRYR's abandonment of a portion of the Grenada line in Grenada Railway, LLC-Abandonment Exemption—in Grenada, Montgomery, Carroll, Holmes, Yazoo, & Madison Counties, Miss., Docket No. AB 1087X. At GRYR's request, the petition for exemption was withdrawn and the proceeding was discontinued in a decision served on November 10, 2011, which rendered IC's request to discontinue its trackage rights moot under the parties' agreement. In a notice served on November 16, 2011, IC's notice of exemption was withdrawn and the proceeding was discontinued. Here, IC states that its filing in this docket is contingent upon approval of GRYR's petition for exemption filed in Docket No. AB 1087 (Sub-No. 1X). If the petition is denied, IC indicates it would withdraw its notice of exemption in this proceeding. IC notes that it acquired these trackage rights from GRYR by virtue of IC's retention of the trackage rights upon its sale of the Grenada Line to GRYR. See Grenada Ry.—Acquis. & Operation Exemption—Ill. Cent. R.R. & Waterloo Ry., FD 35247 (STB served May 29, 2009).

IC has certified that: (1) No local traffic has moved via its trackage rights over the line for at least two years; (2) any overhead traffic that could be handled via those trackage rights over the line can be rerouted over other lines; (3) no formal complaint filed by a user of IC's trackage rights over the line (or by a state or local government entity acting on behalf of such user) regarding cessation of IC service over the line either is pending with the Surface Transportation Board or with any U.S. District Court or has been decided in favor of complainant within the two-year period; and (4) the requirements at 49 CFR 1105.12 (newspaper publication), and 49 CFR 1152.50(d)(1) (notice to governmental agencies) have been met.

As a condition to this exemption, any employee adversely affected by the discontinuance of service shall be protected under Oregon Short Line Railroad—Abandonment Portion Goshen Branch Between Firth & Ammon, in Bingham & Bonneville Counties, Idaho, 360 I.C.C. 91 (1979). To address whether this condition adequately protects affected employees, a petition for partial revocation under 49 U.S.C. 10502(d) must be filed.

Provided no formal expression of intent to file an offer of financial assistance (OFA) has been received, this exemption will be effective on February 20, 2014, unless stayed pending reconsideration. Petitions to stay that do not involve environmental issues and formal expressions of intent to file an OFA to subsidize continued rail service under 49 CFR 1152.27(c)(2)⁴ must be filed by March 3, 2014.⁵ Petitions to reopen must be filed by March 23, 2014, with the Surface Transportation Board, 395 E Street SW., Washington, DC 20423-0001.

⁴ Because this is a discontinuance and not an abandonment, only OFAs to subsidize continued rail service are permitted. Each OFA must be accompanied by the filing fee, which currently is set at $1,600. See 49 CFR 1002.2(f)(25).

⁵ Because this is a discontinuance proceeding and not an abandonment, trail use/rail banking and public use conditions are not appropriate. Likewise, no environmental or historic documentation is required here under 49 CFR 1105.6(c) and 49 CFR 1105.8(b), respectively.

A copy of any petition filed with the Board should be sent to IC's representative: Audrey L. Brodrick, Fletcher & Sippel LLC, 29 North Wacker Drive, Suite 920, Chicago, IL, 60606-2832.

If the verified notice contains false or misleading information, the exemption is void ab initio.

Board decisions and notices are available on our Web site at www.stb.dot.gov.

Decided: February 14, 2014.
By the Board, Rachel D. Campbell, Director, Office of Proceedings.
Derrick A. Gardner,
Clearance Clerk.

[FR Doc. 2014-03641 Filed 2-14-14; 8:45 am]

BILLING CODE 4915-01-P